DEPARTMENT OF HOUSING AND URBAN DEVELOPMENT

[Docket No. FR-5076-D-17]

Delegation and Redelegation of Authority for the Office of the Inspector General

AGENCY: Office of the Inspector General, HUD.

ACTION: Notice of delegation and redelegation of authority.

SUMMARY: This notice updates the delegation of authority of the Office of the Inspector General to require by subpoena the production of all information, documents, reports, answers, records, accounts, papers, and other data and documentary evidence necessary in the performance of the functions assigned by the Inspector General Act to the Deputy Inspector General, the Assistant Inspectors General, the Deputy Assistant Inspectors General, the Special Agents in Charge, the Regional Inspectors General for Audit, and the Directors within the Office of Audit. This notice also redelegates to the above-mentioned officials the authority of the Inspector General to cause the seal of the Department to be affixed to certain documents and to certify that a copy of any book, record, paper, microfilm or other document is a true copy of that in the files of the Department. This notice also delegates the authority to the Deputy Inspector General, the Assistant Inspector General for Investigation, the Deputy Assistant Inspectors General for Investigation, and the Special Agents in Charge, to request information under 5 U.S.C. section 552a(b)(7).

EFFECTIVE DATE: February 12, 2007.

FOR FURTHER INFORMATION CONTACT: Bryan Saddler, Counsel to the Inspector General, Office of the Inspector General, Department of Housing and Urban Development, 451 Seventh Street, SW., Room 8260, Washington, DC 20410-4500, telephone (202) 708-1613. (These are not toll-free numbers.)

SUPPLEMENTARY INFORMATION: Section 6(a)(4) of the Inspector General Act of 1978 (5 U.S.C. app.) authorizes the Inspector General to require by subpoena the production of all information, documents, reports, answers, records, accounts, papers, and other data and documentary evidence necessary in the performance of the functions assigned by the Inspector General Act. This notice delegates this authority to issue subpoenas from the Inspector General to the Deputy Inspector General, the Assistant Inspectors General, the Deputy Assistant Inspectors General, the Special Agents in Charge, the Regional Inspectors General for Audit, and the Directors within the Office of Audit.

This notice also redelegates to the above-mentioned officials the authority delegated to the Inspector General by the Secretary of HUD in the Delegation of Authority published on July 15, 2003, at 68 FR 41840, which delegated to various officials, including the Inspector General, the authority to cause the seal of the Department to be affixed to certain documents and to certify that a copy of any book, record, paper, microfilm or other document is a true copy of that in the files of the Department.

Section 552a(b)(7) authorizes the Inspector General to request information protected by the Privacy Act for a civil or criminal law enforcement activity. This notice delegates to the Deputy Inspector General, the Assistant Inspector General for Investigations, the Deputy Assistant Inspectors General for Investigations, and the Special Agents in Charge, the authority to request information under 5 U.S.C. section 552a(b)(7).

The Inspector General has not limited his authority to issue subpoenas or to affix the Departmental seal and certify copies of records, or to request information under 5 U.S.C. § 552a by this delegation or redelegation. Also, this delegation and redelegation of authority prohibits further delegation or redelegation.

Accordingly, the Inspector General delegates and redelegates as follows:

Section A. Authority Delegated and Redelegated

The HUD Inspector General delegates to the Deputy Inspector General, the Assistant Inspectors General, the Deputy Assistant Inspectors General, the Special Agents in Charge, the Regional Inspectors General for Audit and the Directors within the Office of Audit, the authority to require by subpoena the production of all information, documents, reports, answers, records, accounts, papers, and other data and documentary evidence necessary in the performance of the functions assigned by the Inspector General Act pursuant to Section 6(a)(4) of the Inspector General Act of 1978.

Additionally, the Inspector General redelegates to the Deputy Inspector General, the Assistant Inspectors General, the Deputy Assistant Inspectors General, the Special Agents in Charge, the Regional Inspectors General for Audit and the Directors within the Office of Audit, the authority under the delegation of authority published at 68 FR 41840 (July 15, 2003) to cause the seal of the Department of Housing and Urban Development to be affixed to such documents as may require its application and to certify that a copy of any book, record, paper, microfilm or other document is a true copy of that in the files of the Department.

Additionally, the Inspector General delegates to the Deputy Inspector General, the Assistant Inspector General for Investigations, the Deputy Assistant Inspectors General for Investigations, and the Special Agents in Charge, the authority to request information under5 U.S.C. section 552a(b)(7).

Section B. No Further Delegation or Redelegation

The authority delegated and redelegated in Section A above may not be further delegated or redelegated.

Authority: Section 6(a)(4), Inspector General Act of 1978 (5 U.S.C. App.); Section 7(d), Department of HUD Act (42 U.S.C. 3535(d)); Delegation of Authority, April 15, 1987, at 52 FR 12259; 5 U.S.C. section 552a.

Dated: February 12, 2007.
Kenneth M. Donohue,
Inspector General.

[FR Doc. E7-2826 Filed 2-16-07; 8:45 am]

BILLING CODE 4210-67-P